DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 16, 2009.

Address Comments to: Record Center, Pipeline and Hazardous Materials, Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with part 107 of the Federal hazardous materials transportation law (49 U.S.C. 5 117(b); 49 CFR 1.53(b)).

Issued in Washington, DC, on November 6, 2009.
Delmer F. Billings,
Director, Office of Hazardous Materials Special Permits and Approvals.

Application No. | Docket No. | Applicant | Regulation(s) affected | Nature of special permits thereof
New Special Permits
14932-N |  | TUV Rheinland Taiwan Ltd., Kaohsiung | 49 CFR 173.302a 173.304a and 180.209 | To authorize the manufacture, marking, sale, and use of non-DOT specification fully wrapped carbon-fiber reinforced aluminum lined cylinders for the transportation in commerce of certain compressed gases. (modes 1, 2, 3, 4, 5).
14933-N |  | Tobin Scientific a division of Tobin & Sons Moving and Storage, Inc., Peabody, MA | 49 CFR 173.196 | To authorize the transportation in commerce of certain Division 6.2 infectious substances packaged in portable Dewar flask cryogenic shipping containers, insulated liquid nitrogen refrigerated portable tanks, and automatic fill plug-in liquid nitrogen freezers by highway. (mode 1).
14934-N |  | Saint Louis University, St. Louis, MO | 49 CFR 173.196 | To authorize the transportation in commerce of certain infectious substances in alterantive packaging (freezers) by highway. (mode 1).
14935-N |  | E.I. DuPont de Nemours & Company, Inc., Wilmington, DE | 49 CFR 173.29 and 173.242 | To authorize the one-way transportation in commerce of certain portable tanks and intermediate bulk containers containing the residue of a Class 3 hazardous material for cleaning so they can be repaired. (mode 1).
14937-N |  | Sears National Calibration Laboratory, Garland, TX | 49 CFR 180.213 | To authorize the transportation in commerce of certain cylinders that have requalifier markings on a label embedded in epoxy instead of stamping. (mode 1).
14938-N |  | EP Container, Cerritos, CA | 49 CFR 173.12(b)(2) | To authorize the manufacture, marking, sale, and use of a UN standard 4G fiberboard box for use as the outer packaging for lab pack applications in accordance with § 173.12(b). (modes 1, 3).
14939-N |  | EP Container, Cerritos, CA | 49 CFR 173.12(b)(2) | To authorize the manufacture, marking, sale, and use of a UN standard 11 G fiberboard TBC for use as the outer packaging for lab pack applications in accordance with § 173.12(b). (modes 1, 3).
14940-N |  | Crown Aerosol Packaging, Philadelphia, PA | 49 CFR 173.306 | To authorize the manufacture, marking, sale and use of non-DOT specification cans similar to a DOT 2P or 2Q inner metal receptacle except for wall thickness for the transportation in commerce of certain compressed gases. (mode 1).
14941-N |  | Columbia Analytical Services, Kelso, WA | 49 CFR 173.4a | To authorize the transportation in commerce of small quantities of Class 3 and Class 8 hazardous materials as excepted quantities under 49 CFR 173.4a except that the packagings were tested without the inner packagings being filled to 98% capacity. (modes 1, 4).
14944-N |  | Dean Foods Corporation, Broomfield, CO | 49 CFR 178.33b | To authorize the transportation of Specification 2S inner nonrefillable plastic receptacles containing an aerosol food product that was testing using a modified test protocol. (modes 1, 4, 5).

[FR Doc. E9-27351 Filed 11-13-09; 8:45 am]

BILLING CODE M